FEDERAL RETIREMENT THRIFT INVESTMENT BOARD

Sunshine Act; Notice of Meeting

TIME AND DATE: 11 a.m. (Eastern Time) September 24, 2012.

PLACE: 10th Floor Board Room, 77 K Street NE., Washington, DC 20002.

STATUS: Parts will be open to the public and a part will be closed to the public.

MATTERS TO BE CONSIDERED:

Parts Open to the Public

1. Approval of the Minutes of the August 27, 2012 Board Member Meeting

2. Thrift Savings Plan activity report by the Executive Director

(a) Monthly Participant Activity Report

(b) Monthly Investment Performance Report

(c) Legislative Report

3. Annual Budget Report

(a) Fiscal Year 2012 Results

(b) Fiscal Year 2013 Budget

(c) Fiscal Year 2014 Estimate

Part Closed to the Public

1. Procurement

CONTACT PERSON FOR MORE INFORMATION: Kimberly Weaver, Director, Office of External Affairs, (202) 942-1640.

Dated: September 14, 2012.
James B. Petrick,
Secretary, Federal Retirement Thrift Investment Board.

[FR Doc. 2012-23183 Filed 9-17-12; 11:15 am]

BILLING CODE 6760-01-P